CONSUMER PRODUCT SAFETY COMMISSION

Sunshine Act Meetings

TIME AND DATE: Wednesday, October 19, 2022—11:30 a.m.; and Wednesday, October 19, 2022—2:00 p.m. (See MATTERS TO BE CONSIDERED for each meeting).

PLACE: These meetings will be held remotely.

STATUS: Commission meetings—open to the public.

MATTERS TO BE CONSIDERED:

Decisional Matter

Final Rule: Safety Standard for Clothing Storage Units (Decisional Matter).

All attendees should pre-register for the Commission meeting using the following link: https://cpsc.webex.com/cpsc/onstage/g.php?MTID=e4492a8eec00e0d15cdb2e77f32f33d19.

After registering you will receive a confirmation email containing information about joining the meeting.

Briefing Matter

Final Rules to (1) Add Window Covering Cords to the Substantial Product Hazard List, and (2) Establish a Safety Standard for Operating Cords on Custom Window Coverings.

All attendees should pre-register for the Commission meeting using the following link: https://cpsc.webex.com/cpsc/onstage/g.php?MTID=e498d881d4c2070fb48eade3acc83c308.

After registering you will receive a confirmation email containing information about joining the meeting.

CONTACT PERSON FOR MORE INFORMATION: Alberta E. Mills, Office of the Secretary, U.S. Consumer Product Safety Commission, 4330 East-West Highway, Bethesda, MD 20814, 301-504-7479 (Office) or 240-863-8938 (Cell).

Dated: October 12, 2022.
Alberta E. Mills,
Commission Secretary.

[FR Doc. 2022-22567 Filed 10-13-22; 11:15 am]

BILLING CODE P